NUCLEAR REGULATORY COMMISSION

[Docket No. 72-11; NRC-2019-0148]

Rancho Seco Independent Spent Fuel Storage Installation

AGENCY: Nuclear Regulatory Commission.

ACTION: Environmental assessment and finding of no significant impact; issuance.

SUMMARY: The U.S. Nuclear Regulatory Commission (NRC) is considering the renewal of Special Nuclear Materials (SNM) License SNM-2510 for the Rancho Seco Nuclear Plant Independent Spent Fuel Storage Installation (ISFSI) (Rancho Seco ISFSI) located in Sacramento County, California. The NRC has prepared an environmental assessment (EA) for this proposed license renewal in accordance with its regulations. Based on the EA, the NRC has concluded that a finding of no significant impact (FONSI) is appropriate. The NRC also is conducting a safety evaluation of the proposed license renewal.

DATES: The EA and FONSI referenced in this document are available on March 6, 2020.

ADDRESSES: Please refer to Docket ID NRC-2019-0148 when contacting the NRC about the availability of information regarding this document. You may obtain publicly-available information related to this document using any of the following methods:

• Federal Rulemaking Website: Go to https://www.regulations.gov/ and search for Docket ID NRC-2019-0148. Address questions about NRC docket IDs to Jennifer Borges; telephone: 301-287-9127 email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-0867, email: Jean.Trefethen@nrc.gov.

SUPPLEMENTARY INFORMATION:

I. Introduction

The NRC is considering a license renewal request for SNM-2510 for the Rancho Seco specifically-licensed ISFSI located in Sacramento County, California (ADAMS Accession No. ML18221A281). The licensee, Sacramento Municipal Utility District (SMUD), is requesting to renew license SNM-2510 for the Rancho Seco ISFSI for an additional 40-year period. The current license will expire on June 30, 2020. If approved, SMUD would be able to continue to possess and store spent nuclear fuel at the Rancho Seco ISFSI in accordance with the requirements in part 72 of title 10 of the Code of Federal Regulations (10 CFR), “Licensing Requirements for the Independent Storage of Spent Nuclear Fuel, High-Level Radioactive Waste, and Reactor-Related Greater than Class C Waste.”

The NRC staff has prepared a final EA as part of its review of this license renewal request in accordance with the requirements of 10 CFR part 51, “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 72, and the results will be documented in a separate Safety Evaluation Report (SER). If SMUD's request is approved, the NRC will issue the license renewal following notification in the Federal Register of the availability of this final EA and FONSI and the SER .

II. Final Environmental Assessment Summary

SMUD is requesting to renew license SNM-2510 for the Rancho Seco specifically-licensed ISFSI for a 40-year period. The NRC has assessed the potential environmental impacts of the proposed action and alternatives to the proposed action, including license renewal for an additional 20-year term, shipment of spent fuel to an offsite facility, and the no-action alternative. The results of the NRC's environmental review can be found in the final EA (ADAMS Accession No. ML19241A378). The NRC staff performed its environmental review in accordance with the requirements in 10 CFR part 51. In conducting the environmental review, the NRC considered information in the license renewal application (ADAMS Accession No. ML18221A281); communications and consultation with the California State Historic Preservation Office; the State of California Native American Heritage Commission (NAHC) and eight Native American Tribes; the California Department of Fish and Wildlife (CDFW); and the California State Department of Health Services.

Approval of SMUD's proposed license renewal request would allow the 22 Standardized NUHOMS-24P sealed surface storage casks to continue to remain on the Rancho Seco ISFSI for an additional 40 years. The estimated annual dose to the nearest permanent resident from ISFSI activities is 0.0016 mSv/yr (0.16 mrem/yr) (ADAMS Accession No. ML18221A281), which is below the 0.25 mSv/yr (25 mrem/yr) limit specified in 10 CFR 72.104(a) and the 1 mSv/yr (100 mrem/yr) limit in 10 CFR 20.1301(a)(1). Furthermore, SMUD maintains a radiation protection program for the ISFSI in accordance with 10 CFR part 20 to ensure that radiation doses are as low as is reasonably achievable (ALARA). Accordingly, no significant radiological or non-radiological impacts are expected to result from approval of the license renewal request, and the proposed action would not significantly contribute to cumulative impacts at the Rancho Seco site. Additionally, there would be no disproportionately high and adverse impacts on minority and low-income populations.

In its license renewal request, SMUD is proposing no changes in how it handles or stores spent fuel at the Rancho Seco ISFSI. Approval of the proposed action would not result in any new construction or expansion of the existing ISFSI footprint beyond that previously approved. The ISFSI is a largely passive facility that produces no liquid or gaseous effluents. No significant radiological or nonradiological impacts are expected from continued normal operations. Occupational dose estimates associated with the proposed action and continued normal operation and maintenance of the ISFSI are expected to be at ALARA levels and within the limits of 10 CFR 20.1201. Therefore, the NRC staff has determined that pursuant to 10 CFR 51.31, preparation of an EIS is not required for the proposed action, and pursuant to 10 CFR 51.32, a FONSI is appropriate.

Furthermore, the NRC staff determined that this license renewal request does not have the potential to cause effects on historic properties, assuming those were present; therefore, in accordance with 36 CFR 800.3(a)(1), no consultation is required under Section 106 of the National Historic Preservation Act. The NRC staff, however, reached out to and informed the California State Historic Preservation Officer (SHPO) via letter dated December 14, 2018 (ADAMS Package Accession No. ML18348A551) and eight Native American Tribes of its determination via letters dated January 9, 2019 (ADAMS Package Accession No. ML18341A258). The California SHPO responded via letter dated January 9, 2019, indicating they had no comments or concurrence on the finding of no effect (ADAMS Accession No. ML19010A118). The NRC staff, with the assistance of the U.S. Fish and Wildlife Service Information for Planning and Consultation (IPaC) project planning tool, determined that the listed species and/or critical habitat will not be adversely affected by the proposed action.

III. Finding of No Significant Impact

Based on its review of the proposed action in the EA, in accordance with the requirements in 10 CFR part 51, the NRC has concluded that the proposed action, renewal of NRC Special Nuclear Materials License No. SNM-2510 for the Rancho Seco ISFSI located in Sacramento County, California, will not significantly affect the quality of the human environment. Therefore, the NRC has determined, pursuant to 10 CFR 51.31, that preparation of an EIS is not required for the proposed action and a finding of no significant impact is appropriate.

Dated at Rockville, Maryland, this 3rd day of March, 2020.
For the Nuclear Regulatory Commission.
Cinthya I. Roman-Cuevas,
Chief, Environmental Review Materials Branch, Division of Rulemaking, Environmental, and Financial Support, Office of Nuclear Material Safety and Safeguards.

[FR Doc. 2020-04639 Filed 3-5-20; 8:45 am]

BILLING CODE 7590-01-P